DEPARTMENT OF TRANSPORTATION

Federal Railroad Administration

[Docket No. FRA-2018-0008-N-2]

Proposed Agency Information Collection Activities; Comment Request

AGENCY: Federal Railroad Administration (FRA), Department of Transportation (DOT).

ACTION: Notice of information collection; request for comment.

SUMMARY: Under the Paperwork Reduction Act of 1995 (PRA), this notice announces that FRA is forwarding the Information Collection Request (ICR) abstracted below to the Office of Management and Budget (OMB) for review and comment. The ICR describes the information collection and its expected burden. On December 11, 2017, FRA published a notice providing a 60-day period for public comment on the ICR.

DATES: Interested persons are invited to submit comments on or before March 22, 2018.

ADDRESSES: Submit written comments on the ICR to the Office of Information and Regulatory Affairs, Office of Management and Budget, 725 17th Street NW, Washington, DC 20503, Attention: FRA Desk Officer. Comments may also be sent via email to OMB at the following address: oira_submissions@omb.eop.gov.

FOR FURTHER INFORMATION CONTACT: Mr. Robert Brogan, Information Collection Clearance Officer, Office of Railroad Safety, Safety Regulatory Analysis Division, RRS-21, Federal Railroad Administration, 1200 New Jersey Avenue SE, Mail Stop 25, Washington, DC 20590 (telephone: (202) 493-6292); or Ms. Kim Toone, Information Collection Clearance Officer, Office of Administration, Office of Information Technology, RAD-20, Federal Railroad Administration, 1200 New Jersey Avenue SE, Mail Stop 35, Washington, DC 20590 (telephone: (202) 493-6132).

SUPPLEMENTARY INFORMATION: The PRA, 44 U.S.C. 3501-3520, and its implementing regulations, 5 CFR part 1320, require Federal agencies to issue two notices seeking public comment on information collection activities before OMB may approve paperwork packages. See 44 U.S.C. 3506, 3507; 5 CFR 1320.8-12. On December 11, 2017, FRA published a 60-day notice in the Federal Register soliciting comment on the ICR for which it is now seeking OMB approval. See 82 FR 58265. FRA received one comment in response to this notice.

On January 24, 2018, Dennis J. Fixler, the Chief Economist of the Bureau of Economic Analysis (BEA), sent an electronic letter expressing BEA's strong support of the continued collection of data by FRA on the Accident/Incident Reporting and Recordkeeping forms. He noted that the data collected on these forms are crucial to key components of BEA's economic statistics. In his letter, Dr. Fixler stated that BEA uses data collected on these forms to prepare estimates of the employee compensation component of national income and state personal income. Specifically, Dr. Fixler stated that data on the number of employee injuries and deaths from forms FRA F6180.55 and FRA F 6180.55a, Railroad Injury and Illness Summary, are used to prepare estimates of workers' compensation for the railroad industry, and that these same data are used to prepare estimates of workers' compensation for the railroad industry by State.

Before OMB decides whether to approve these proposed collections of information, it must provide 30 days for public comment. Federal law requires OMB to approve or disapprove paperwork packages between 30 and 60 days after the 30-day notice is published. 44 U.S.C. 3507(b)-(c); 5 CFR 1320.12(d); see also 60 FR 44978, 44983, Aug. 29, 1995. OMB believes the 30-day notice informs the regulated community to file relevant comments and affords the agency adequate time to digest public comments before it renders a decision. 60 FR 44983, Aug. 29, 1995. Therefore, respondents should submit their respective comments to OMB within 30 days of publication to best ensure having their full effect.

Comments are specifically invited on the following ICR regarding: (1) Whether the information collection activities are necessary for FRA to properly execute its functions, including whether the information will have practical utility; (2) the accuracy of FRA's estimates of the burden of the information collection activities, including the validity of the methodology and assumptions used to determine the estimates; (3) ways for FRA to enhance the quality, utility, and clarity of the information being collected; and (4) ways to minimize the burden of information collection activities on the public, including the use of automated collection techniques or other forms of information technology.

The summary below describes the ICR that FRA will submit for OMB clearance:

Title: Accident/Incident Reporting and Recordkeeping.

OMB Control Number: 2130-0500.

Abstract: The collection of information is due to the railroad accident reporting regulations in 49 CFR part 225 that require railroads to submit monthly reports summarizing collisions, derailments, and certain other accidents/incidents involving damages above a periodically revised dollar threshold, as well as certain injuries to passengers, employees, and other persons on railroad property. Because the reporting requirements and the information needed regarding each category of accident/incident are unique, a different form is used for each category.

FRA hereby informs the regulated community of railroads and the general public that it is revising the instructions for Form FRA F 6180.57, Highway-Rail Grade Crossing Accident/Incident Report, to capture information concerning post-accident toxicological testing for certain human factor highway-rail grade crossing accidents and incidents in the narrative block of this form. The newly revised 49 Code of Federal Regulations (CFR) 219.201(a), effective on June 12, 2017, requires post-accident toxicological testing of railroad employees under various, enumerated circumstances, and include certain human-factor categories of highway-rail grade crossing accidents and incidents (49 CFR 219.201(a)(5)). See 81 FR 37894 (June 10, 2016).

FRA will begin the process to add a block to Form FRA F 6180.57 to accommodate this requirement. In the interim, if railroads perform drug and alcohol testing on any employee or employees involved in a highway-rail grade crossing accident, FRA is requesting the railroad place the drug and alcohol coding information in Item No. 54, “Narrative Description”, of Form FRA F 6180.57.

In accordance with the requirements of the PRA, on February 28, 2017, FRA transmitted to OMB its renewal submission for this collection of information. This submission increased the agency estimate of the annual number of forms completed for Form FRA F 6180.57 by 160 forms from the previously approved submission to OMB (from a total of 2,000 to 2,160 forms). FRA estimated two hours as the average burden time to complete Form FRA F 6180.57, including the time for the information to be placed in the narrative block of the form. OMB cleared this renewal submission approving a total burden of 46,577 hours and 109,440 responses on June 2, 2017, and extended the previous clearance for another three years. The new expiration date for this information collection is now June 30, 2020. FRA now seeks approval for this change to the Form 57 instructions.

Type of Request: Extension with change of a current information collection.

Affected Public: Businesses.

Form(s): FRA F 6180.39i; 54; 55; 55A; 56; 57; 78; 81; 97; 98; 99; 107; 150.

Respondent Universe: 744 railroads.

Frequency of Submission: On occasion.

Total Estimated Annual Responses: 109,440.

Total Estimated Annual Burden: 46,577 hours.

Under 44 U.S.C. 3507(a) and 5 CFR 1320.5(b) and 1320.8(b)(3)(vi), FRA informs all interested parties that it may not conduct or sponsor, and a respondent is not required to respond to a collection of information, unless it displays a currently valid OMB control number.

Authority: 44 U.S.C. 3501-3520.

Brett A. Jortland,
Acting Deputy Chief Counsel.

[FR Doc. 2018-03360 Filed 2-16-18; 8:45 am]

BILLING CODE 4910-06-P